DEPARTMENT OF TRANSPORTATION

Federal Aviation Administration

Land Release for Long Island MacArthur Airport

AGENCY: Federal Aviation Administration, DOT.

ACTION: Notice, request for public comment.

SUMMARY: The Federal Aviation Administration is requesting public comment on the Long Island MacArthur Airport (ISP), Ronkonkoma, New York, notice of proposed release from aeronautical use of approximately 17.69 acres of airport property, to allow for non-aeronautical development.

The parcel is located on the northeast corner of the Long Island MacArthur Airport. The tract currently consists of 17.69 acres of land and it is currently vacant. The requested release is for the purpose of permitting the airport owner to sell and convey title of 17.62 acres for use by the Long Island Rail Road.

Documents reflecting the Sponsor's request are available, by appointment only, for inspection at the Airport Managers office and the FAA New York Airport District Office.

DATES: Comments must be received by December 10, 2010.

ADDRESSES: Comments on this application may be mailed or delivered to the FAA at the following address: John R. Dermody, Manager, FAA New York Airports District Office, 600 Old Country Road, Suite 446, Garden City, New York 11530. In addition, a copy of any comments submitted to the FAA must be mailed or delivered to Ms. Teresa Rizzuto, Airport Manager, at the following address: 100 Arrival Avenue Ronkonkoma, NY. 11799-7398.

FOR FURTHER INFORMATION CONTACT: John R. Dermody, Manager, New York Airports District Office, 600 Old Country Road, Suite 446, Garden City, New York 11530; telephone (516) 227-3803; FAX (516) 227-3813; e-mail John. Dermody@faa.gov.

SUPPLEMENTARY INFORMATION: Section 125 of the Wendell H. Ford Aviation Investment and Reform Act for the 1st Century (AIR21) requires the FAA to provide an opportunity for public notice and comment before the Secretary may waive a sponsor's Federal obligation to use certain airport land for aeronautical use.

Issued in Garden City, New York on November 2, 2010.
John R. Dermody,
Manager, New York Airports District Office, Eastern Region.

[FR Doc. 2010-28317 Filed 11-9-10; 8:45 am]

BILLING CODE 4910-13-P